DEPARTMENT OF TRANSPORTATION

Federal Aviation Administration

14 CFR Part 39

[Docket No. 2003-NE-03-AD; Amendment 39-13249; AD 2003-15-06]

RIN 2120-AA64

Airworthiness Directives; Rolls-Royce plc RB211 Trent 800 Series Turbofan Engines

AGENCY: Federal Aviation Administration, DOT.

ACTION: Final rule.

SUMMARY: This amendment adopts a new airworthiness directive (AD) that applies to Rolls-Royce plc (RR) RB211 Trent 875-17, Trent 877-17, Trent 884-17, Trent 892-17, Trent 892B-17, and Trent 895-17 turbofan engines with high pressure (HP) compressor rotor rear stage 5 and 6 discs and cone shafts, part numbers (P/Ns) FK25230 and FK27899 installed. This amendment requires removal from service of these HP compressor rotor rear stage 5 and 6 discs and cone shafts, before reaching newly reduced life limits. This amendment is prompted by three reports of crack indications in the stage 5 and stage 6 blade loading slots, found during engine overhaul. We are issuing this AD to prevent stage 5 and 6 disc crack initiation and propagation leading to uncontained disc failure and damage to the airplane.

DATES: Effective September 3, 2003.

ADDRESSES: The service information referenced in this AD may be obtained from Rolls Royce plc, P.O. Box 31, DERBY, DE24 8BJ, UK, telephone: 44 (0) 1332 242424; fax: 44 (0) 1332 249936. This information may be examined, by appointment, at the Federal Aviation Administration (FAA), New England Region, Office of the Regional Counsel, 12 New England Executive Park, Burlington, MA; or at the Office of the Federal Register, 800 North Capitol Street, NW., suite 700, Washington, DC.

FOR FURTHER INFORMATION CONTACT: James Lawrence, Aerospace Engineer, Engine Certification Office, FAA, Engine and Propeller Directorate, 12 New England Executive Park, Burlington, MA 01803-5299, telephone (781) 238-7176; fax (781) 238-7199.

SUPPLEMENTARY INFORMATION: A proposal to amend part 39 of the Federal Aviation Regulations (14 CFR part 39) to include an AD that is applicable to RR RB211 Trent 875-17, Trent 877-17, Trent 884-17, Trent 892-17, Trent 892B-17, and Trent 895-17 turbofan engines with HP compressor rotor rear stage 5 and 6 discs and cone shafts, part numbers (P/Ns) FK25230 and FK27899 installed was published in the Federal Register on March 11, 2003. That action proposed to require removal from service of these HP compressor rotor rear stage 5 and 6 discs and cone shafts, before reaching newly reduced life limits. Information on the reduced life limits of these HP compressor rotors may be found in RR mandatory service bulletin (MSB) RB.211-72-E082, Revision 2, dated November 22, 2002.

Comments

Interested persons have been afforded an opportunity to participate in the making of this amendment. Due consideration has been given to the comments received.

Request To Include a Reference to RR Service Information

One commenter requests that a reference to RR MSB RB.211-72-E082, Revision 2, dated November 22, 2002, be included in the final rule. The commenter believes that the reference to the MSB is necessary for clarification and for traceability to the AD if future revisions to the MSB are issued.

The FAA agrees. The MSB reference is included in the Supplementary Information paragraph and in Compliance paragraph (a).

Request To Withdraw Unnecessary AD

One commenter states that the new life limit specified in the AD has already been included in the RB211 Trent Time Limits Manual (Chapter 5); therefore, the AD is unnecessary.

The FAA does not agree. Although the new life limits have been included in the RB211 Time Limits Manual, the reduced life limits are not enforceable unless mandated by an AD. Accordingly, the FAA will not change the AD based on this comment.

After careful review of the available data, including the comments noted above, the FAA has determined that air safety and the public interest the adoption of the rule with the change described previously. The FAA has determined that this change will neither increase the economic burden on any operator nor increase the scope of the AD.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

For the reasons discussed above, I certify that this action: (1) Is not a “significant regulatory action” under Executive Order 12866; (2) is not a “significant rule” under the DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained by contacting the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-15-06 Rolls-Royce plc: Amendment 39-13249. Docket No. 2003-NE-03-AD.

Applicability

This airworthiness directive (AD) applies to Rolls-Royce plc (RR) RB211 Trent 875-17, Trent 877-17, Trent 884-17, Trent 892-17, Trent 892B-17, and Trent 895-17 turbofan engines with high pressure (HP) compressor rotor rear stage 5 and 6 discs and cone shafts, part numbers (P/Ns) FK25230 and FK27899 installed. These engines are installed on, but not limited to Boeing 777 airplanes.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance

You are responsible for having the actions required by this AD performed within the compliance times specified unless the actions have already been accomplished.

To prevent stage 5 and 6 disc crack initiation and propagation leading to uncontained disc failure and damage to the airplane, do the following:

(a) Remove HP compressor rotor rear stage 5 and 6 discs and cone shafts, from service at or before accumulating 7,500 cycles-since-new (CSN). Information on the reduced life limits may be found in RR mandatory service bulletin RB.211-72-E082, Revision 2, dated November 22, 2002.

(b) After the effective date of this AD, do not install any HP compressor rotor rear stage 5 and 6 discs and cone shaft, listed in this AD, that exceed 7,500 CSN.

Alternative Methods of Compliance

(c) An alternative method of compliance or adjustment of the compliance time that provides an acceptable level of safety may be used if approved by the Manager, Engine Certification Office (ECO). Operators must submit their request through an appropriate FAA Principal Maintenance Inspector, who may add comments and then send it to the Manager, ECO.

Note 2: Information concerning the existence of approved alternative methods of compliance with this airworthiness directive, if any, may be obtained from the ECO.

Special Flight Permits

(d) Special flight permits may be issued in accordance with §§ 21.197 and 21.199 of the Federal Aviation Regulations (14 CFR 21.197 and 21.199) to operate the airplane to a location where the requirements of this AD can be done.

Note 3: The subject of this AD is addressed in CAA airworthiness directive 002-08-2002, dated November 22, 2002.

Effective Date

(e) This amendment becomes effective on September 3, 2003.

Issued in Burlington, Massachusetts, on July 23, 2003.
Francis A. Favara,
Acting Manager, Engine and Propeller Directorate, Aircraft Certification Service.

[FR Doc. 03-19306 Filed 7-29-03; 8:45 am]

BILLING CODE 4910-13-P